DEPARTMENT OF VETERANS AFFAIRS

[OMB Control No. 2900-0778]

Proposed Information Collection (Disability Benefits Questionnaire (Group 3)); Activity: Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice.

The VA Form 21-0960 series will be used to gather necessary information from a claimant's treating physician regarding the results of medical examinations. VA will gather medical information related to the claimant that is necessary to adjudicate the claim for VA disability benefits. The DBQ title will include the name of the specific disability for which it will gather information. VAF 21-0960C-5, Central Nervous System and Neuromusculo Diseases Disability Benefits Questionnaire, will gather information related to the claimant's diagnosis of a central nervous system disease; VAF 21-0960C-8, Headaches (Including Migraine Headaches) Disability Benefits Questionnaire, will gather information related to the claimant's diagnosis of headaches; VAF 21-0960C-9, Multiple Sclerosis (MS) Disability Benefits Questionnaire, will gather information related to the claimant's diagnosis of multiple sclerosis; VAF 21-0960G-1, Esophageal Disorders (including GERD, Hiatal Hernia, and Other Esophageal Disorders) Disability Benefits Questionnaire, will gather information related to the claimant's diagnosis of any esophageal disorders; VAF 21-0960G-2, Gall Bladder and Pancreas Conditions Disability Benefits Questionnaire, will gather information related to the claimant's diagnosis of any gall bladder and pancreas condition; VAF 21-0960G-3, Intestinal Conditions (Other than Surgical or Infectious) Including Irritable Bowel Syndrome, Crohn's Disease, Ulcerative Colitis, and Diverticulitis Disability Benefits Questionnaire, will gather information related to the claimant's diagnosis of any intestinal conditions unrelated to surgery or infection; VAF 21-0960G-4, Infectious Intestinal Disorders (including Bacterial and Parasitic Infections) Disability Benefits Questionnaire, will gather information related to the claimant's diagnosis of any infectious intestinal condition; VAF 21-0960G-5, Hepatitis, Cirrhosis and other Liver Conditions Disability Benefits Questionnaire, will gather information related to the claimant's diagnosis of any liver condition; VAF 21-0960G-6, Peritoneal Adhesions Disability Benefits Questionnaire, will gather information related to the claimant's diagnosis of peritoneal adhesions; VAF 21-0960G-7, Stomach and Duodenum Conditions (Not Including GERD or Esophageal Disorders) Disability Benefits Questionnaire, will gather information related to the claimant's diagnosis of any stomach or duodenum conditions; VAF 21-0960G-8, Intestinal Surgery (Bowel Resection, Colostomy, Ileostomy) Disability Benefits Questionnaire, will gather information related to the claimant's diagnosis of any surgical intestinal condition; VAF 21-0960H-2, Rectum and Anus Conditions (Including Hemorrhoids) Disability Benefits Questionnaire, will gather information related to the claimant's diagnosis of any rectum or anus condition, which includes hemorrhoids; VAF 21-0960K-1 Breast Conditions and Disorders Disability Benefits Questionnaire, will gather information related to the claimant's diagnosis of a breast condition or disorder; VAF 21-0960K-2 Gynecological Conditions Disability Benefits Questionnaire, will gather information related to the claimant's diagnosis of a gynecological condition; VAF 21-0960L-2, Sleep Apnea Disability Benefits Questionnaire, will gather information related to the claimant's diagnosis of sleep apnea; VAF 21-0960M-11, Osteomyelitis Disability Benefits Questionnaire, will gather information related to the claimant's diagnosis of osteomyelitis; VAF 21-0960N-1, Ear Conditions (Including Vestibular and Infectious) Disability Benefits Questionnaire, will gather information related to the claimant's diagnosis of an ear disease.

DATES: Written comments and recommendations on the proposed collection of information should be received on or before April 18, 2016.

ADDRESSES: Submit written comments on the collection of information through Federal Docket Management System (FDMS) at www.Regulations.gov or to Nancy J. Kessinger, Veterans Benefits Administration (20M33), Department of Veterans Affairs, 810 Vermont Avenue NW., Washington, DC 20420 or email to nancy.kessinger@va.gov. Please refer to “OMB Control No. 2900-0778” in any correspondence.

FOR FURTHER INFORMATION CONTACT: Nancy J. Kessinger at (202) 632-8924 or FAX (202) 632-8925.

SUPPLEMENTARY INFORMATION: Under the PRA of 1995 (Pub. L. 104-13; 44 U.S.C. 3501-21), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Disability Benefits Questionnaires (Group 3).

OMB Control Number: 2900-0778.

Type of Review: Revision of a currently approved collection.

Abstract: The VA Form 21-0960 series will be used to gather necessary information from a claimant's treating physician regarding the results of medical examinations. VA will gather medical information related to the claimant that is necessary to adjudicate the claim for VA disability benefits.

Affected Public: Individuals or households.

Estimated Annual Burden: 77,500.

Estimated Average Burden per Respondent

i. VAF 21-0960C-5—30 minutes

ii. VAF 21-0960C-8—15 minutes

iii. VAF 21-0960C-9—45 minutes

iv. VAF 21-0960G-1—15 minutes

v. VAF 21-0960G-2—15 minutes

vi. VAF 21-0960G-3—15 minutes

vii. VAF 21-0960G-4—15 minutes

viii. VAF 21-0960G-5—30 minutes

ix. VAF 21-0960G-6—15 minutes

x. VAF 21-0960G-7—15 minutes

xi. VAF 21-0960G-8—15 minutes

xii. VAF 21-0960H-2—15 minutes

xiii. VAF 21-0960K-1—15 minutes

xiv. VAF 21-0960K-2—30 minutes

xv. VAF 21-0960L-2—15 minutes

xvi. VAF 21-0960M-11—15 minutes

xvii. VAF 21-0960N-1—15 minutes

Frequency of Response: One time.

Estimated Number of Respondents: 250,000.

By direction of the Secretary.
Kathleen M. Manwell,
Program Analyst, VA Privacy Service, Office of Privacy and Records Management, Department of Veterans Affairs.

[FR Doc. 2016-03207 Filed 2-16-16; 8:45 am]

BILLING CODE 8320-01-P